ENVIRONMENTAL PROTECTION AGENCY

40 CFR Part 122

[EPA-HQ-OW-2021-0169; FRL-12219-01-OW]

Modification to 2022 National Pollutant Discharge Elimination System (NPDES) Construction General Permit (CGP) for Stormwater Discharges From Construction Activities

AGENCY: Environmental Protection Agency (EPA).

ACTION: Notification; request for public comment.

SUMMARY: The Environmental Protection Agency (EPA) is proposing a narrow modification to its 2022 CGP to expand the list of areas eligible for coverage to include construction projects in Lands of Exclusive Federal Jurisdiction. This modification is necessary because the EPA is the permitting authority in Lands of Exclusive Federal Jurisdiction, and when the CGP was issued on February 17, 2022, the permit did not specifically provide eligibility for all of these areas. The proposed modification would also clarify the CGP requirements that apply to projects that discharge to receiving waters within Lands of Exclusive Federal Jurisdiction. The EPA seeks comment only on the proposed permit revisions and the accompanying fact sheet. The fact sheet and proposed permit modification can be found at https://www.epa.gov/npdes/stormwater-discharges-construction-activities.

DATES: Comments on the proposed permit modification must be received on or before January 13, 2025.

ADDRESSES: You may send comments, identified by Docket ID No. EPA-HQ-OW-2021-0169, by any of the following methods:

• Federal eRulemaking Portal: https://www.regulations.gov/. Follow the online instructions for submitting comments.

• Mail: U.S. Environmental Protection Agency, EPA Docket Center, Office of Water, Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m. to 4:30 p.m., Monday—Friday (except Federal Holidays).

Instructions: All submissions received must include the Docket ID No. for this rulemaking. Comments received may be posted without change to https://www.regulations.gov, including personal information provided. For detailed instructions on sending comments and additional information on the rulemaking process, see the “Public Participation” heading of the SUPPLEMENTARY INFORMATION section of this document.

FOR FURTHER INFORMATION CONTACT: Greg Schaner, EPA Headquarters, Office of Water, Office of Wastewater Management at (202) 564-0721 or by email at schaner.greg@epa.gov.

SUPPLEMENTARY INFORMATION: This section is organized as follows:

Table of Contents

I. General Information

A. Does this action apply to me?

B. Public Participation

C. Finalizing the Proposed Permit Modification

D. Who are the EPA Regional Contacts for This Permit?

II. Permit Modification Background

A. Permitting of Stormwater Discharges From Construction Activities

B. Background on Lands of Exclusive Federal Jurisdiction

C. Why is a Modification to the 2022 CGP Necessary

III. Summary of Proposed Permit Changes

IV. Public Notice of Clean Water Act Section 401 Certification for Lands of Exclusive Federal Jurisdiction

V. Paperwork Reduction Act (PRA)

VI. 2022 CGP Incremental Cost Analysis

VII. Executive Order 12866: Regulatory Planning and Review and Executive Order 14094: Modernizing Regulatory Review

VIII. Executive Order 12898: Federal Actions To Address Environmental Justice in Minority Populations and Low-Income Populations and Executive Order 14096: Revitalizing Our Nation's Commitment to Environmental Justice for All

IX. Executive Order 13175: Consultation and Coordination With Indian Tribal Governments

X. Executive Order 13211: Actions That Significantly Affect Energy Supply, Distribution, or Use

XI. Compliance With the National Environmental Policy Act (NEPA) for the National Pollutant Discharge Elimination System (NPDES) General Permit for Discharges from Construction Activities

I. General Information

A. Does this action apply to me?

This proposed permit modification covers the following entities, as categorized in the North American Industry Classification System (NAICS), where they are conducting construction activities in Lands of Exclusive Federal Jurisdiction:

Table 1—Entities Covered by This Proposed Permit
Category | Examples of affected entities | North American Industry Classification System (NAICS) code
Industry | Construction site operators disturbing one or more acres of land, or less than one acre but part of a larger common plan of development or sale if the larger common plan will ultimately disturb one acre or more, and performing the following activities:
| Construction of Buildings | 236
| Heavy and Civil Engineering Construction | 237

The EPA does not intend the preceding table to be exhaustive but provides it as a guide for readers regarding the types of activities the EPA is now aware of that could potentially be affected by this action. Other types of entities not listed in the table could also be affected. To determine whether your site is covered by this action, you should carefully examine the definition of “construction activity” and “small construction activity” in the existing EPA regulations at 40 CFR 122.26(b)(14)(x) and (b)(15), respectively. If you have questions regarding the applicability of this action to a particular entity, consult one of the persons listed for technical information in the preceding FOR FURTHER INFORMATION CONTACT section.

B. Public Participation

1. Written Comments

Submit your comments, identified by Docket ID No. EPA-HQ-OW-2021-0169, at https://www.regulations.gov (our preferred method), or the other methods identified in the ADDRESSES section. Once submitted, comments cannot be edited or removed from the docket. The EPA may publish any comment received to its public docket. Do not submit to the EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

2. Will public hearings be held on this action?

The EPA has not scheduled any public hearings to receive public comment concerning the proposed 2022 CGP modification. However, interested persons may request a public hearing concerning the proposed 2022 CGP modification pursuant to 40 CFR 124.12. Requests for a public hearing must be sent or delivered in writing to the same address as provided above for public comments prior to the close of the comment period. Requests for a public hearing must state the nature of the issues proposed to be raised in the hearing. Pursuant to 40 CFR 124.12, the EPA shall hold a public hearing if it finds, on the basis of requests, a significant degree of public interest in a public hearing on the proposed 2022 CGP modification. If the EPA decides to hold a public hearing, a public notice of the date, time, and place of the hearing will be made at least 30 days prior to the hearing. Any person may provide written or oral statements and data pertaining to the proposed 2022 CGP modification at any such public hearing.

C. Finalizing the Proposed Permit Modification

After the comment period closes, the EPA intends to issue a final modification to the 2022 CGP sometime in early 2025. The EPA's responses to public comments received will be included in the docket as part of the final permit issuance. Once the final modification becomes effective, eligible operators of construction projects within Lands of Exclusive Federal Jurisdiction may obtain coverage under the 2022 CGP.

D. Who are the EPA regional contacts for this permit?

For EPA Region 1, contact Meridith Finegan: Email at finegan.meridith@epa.gov.

For EPA Region 2, contact Sieglinde Pylypchuk: Email at pylypchuk.sieglinde@epa.gov, or for Puerto Rico, contact Sergio Bosques: Email at bosques.sergio@epa.gov.

For EPA Region 3, contact Shana Stephens: Email at stephens.shana@epa.gov.

For EPA Region 4, contact Michael Mitchell: Email at mitchell.michael@epa.gov.

For EPA Region 5, contact Krista McKim: Email at mckim.krista@epa.gov.

For EPA Region 6, contact Suzanna Perea: Email at: perea.suzanna@epa.gov.

For EPA Region 7, contact Mark Matthews: Email at: matthews.mark@epa.gov.

For EPA Region 8, contact Amy Maybach: Email at: maybach.amy@epa.gov.

For EPA Region 9, contact Eugene Bromley: Email at bromley.eugene@epa.gov.

For EPA Region 10, contact Jill Seale: Email at seale.jill@epa.gov.

II. Permit Modification Background

A. Permitting of Stormwater Discharges From Construction Activities

Stormwater discharges from certain construction activities are required under authority of section 402(p)(2) and (p)(6) of the Clean Water Act and 40 CFR 122.26(a)(1)(ii) and (a)(9)(i)(B) of EPA's regulations to be covered by a state or EPA-issued NPDES permit. More specifically, NPDES permits are required for discharges from projects that cause one or more acres of land disturbance, and smaller land disturbances that are part of a common plan of development or sale if they will ultimately disturb one or more acres of land. Under these authorities, the EPA issues an NPDES Construction General Permit for stormwater discharges from construction activities (referred to as the “CGP”). The CGP provides permit coverage in areas where the EPA is the permitting authority, which include three states (Massachusetts, New Hampshire, New Mexico); the District of Columbia; Federal facilities in four states (Washington, Colorado, Delaware, and Vermont); all U.S. territories except the U.S. Virgin Islands; all Indian Country, except in Maine; and Denali National Park. The EPA is also the permitting authority for stormwater discharges from regulated construction activities that take place on “Lands of Exclusive Federal Jurisdiction.” Refer to section II.B of this document for further explanation of Lands of Exclusive Federal Jurisdiction.

Most recently, the EPA issued its 2022 CGP on February 17, 2022. The 2022 CGP provides coverage for stormwater discharges from regulated construction activities that are located in the specific areas identified in Appendix B of the permit.

B. Background on Lands of Exclusive Federal Jurisdiction

1. Definition of Lands of Exclusive Federal Jurisdiction

Lands of Exclusive Federal Jurisdiction are lands in the U.S. where the Federal Government retains exclusive jurisdiction in relevant respects. Not all Federal lands are Lands of Exclusive Federal Jurisdiction. Rather, exclusive Federal jurisdiction is established only under limited circumstances pursuant to the Enclave Clause of the U.S. Constitution, article 1, section 8, clause 17. These circumstances include (1) where the Federal Government purchases land with state consent to jurisdiction, consistent with article 1, section 8, clause 17 of the U.S. Constitution; (2) where a state chooses to cede jurisdiction to the Federal Government; and (3) where the Federal Government reserved jurisdiction upon granting statehood. See Paul v. United States, 371 U.S. 245, 263-65 (1963); Collins v. Yosemite Park Co., 304 U.S. 518, 529-30 (1938); James v. Dravo Contracting Co., 302 U.S. 134, 141-42 (1937); Surplus Trading Company v. Cook, 281 U.S. 647, 650-52 (1930); Fort Leavenworth Railroad Company v. Lowe, 114 U.S. 525, 527 (1895).

2. Where are Lands of Exclusive Federal Jurisdiction located?

Lands of Exclusive Federal Jurisdiction, as defined in section II.B.1 of this document, are all land where the Federal Government has exclusive Federal jurisdiction in relative respects. The EPA does not maintain a map or list of all Lands of Exclusive Federal Jurisdiction. The reason for this is that the jurisdictional status of Federal lands is tracked by multiple Federal land management agencies and the jurisdictional status of Lands of Exclusive Federal Jurisdiction may change over time. Individual Federal land management agencies may have such maps or lists, but the EPA is unaware of a comprehensive listing of all current Lands of Exclusive Federal Jurisdiction across all agencies. Notably, however, 16 U.S.C. chapter 1 identifies the following U.S. National Park Service properties as containing Lands of Exclusive Federal Jurisdiction: Denali National Park, Mount Rainier National Park, Olympic National Park, Hot Springs National Park, Hawai'i Volcanoes National Park, Yellowstone National Park, Yosemite National Park, Sequoia National Park, Crater Lake National Park, Glacier National Park, Rocky Mountain National Park, Mesa Verde National Park, Lassen Volcanic National Park, Great Smoky Mountains National Park, Mammoth Cave National Park, and Isle Royale National Park.

3. The EPA's NPDES Authority in Lands of Exclusive Federal Jurisdiction

The Clean Water Act provides the EPA at 33 U.S.C. 1342(a) with the authority to establish and implement the NPDES permitting program, while also establishing for states and Tribes at 33 U.S.C. 1342(b) procedures to request authorization from the EPA to administer the program within their jurisdiction. Lands of Exclusive Federal jurisdiction in relevant respects present a case where states lack authority for administering the NPDES program, as states lack legislative jurisdiction in these areas absent specific congressional action. See Paul, 371 U.S. at 263 (finding precedent establishes “that the grant of `exclusive' legislative power to Congress over enclaves that meet the requirements of Art. I, s 8, cl. 17, by its own weight, bars state regulation without specific congressional action.”). Congress did not take specific action in the Clean Water Act to grant authority to states to administer the NPDES program in Lands of Exclusive Federal Jurisdiction in relevant respects. Due to the Federal Government's unique jurisdictional authority within Lands of Exclusive Federal Jurisdiction, and the absence of specific congressional action within the Clean Water Act providing otherwise, the EPA has authority to administer the NPDES permitting program on these lands. Therefore, where NPDES-regulated discharges, including stormwater discharges from regulated construction activities, will occur within a Land of Exclusive Federal Jurisdiction, the discharger must obtain permit coverage under an EPA-issued permit.

C. Why is a modification to the 2022 CGP necessary?

The 2022 CGP and prior CGPs did not include eligibility for all Lands of Exclusive Federal Jurisdiction in the U.S. The effect of this omission would leave construction projects scheduled to commence during the remaining effective period of the 2022 CGP (i.e., the general permit expires on February 17, 2027) without the ability to obtain coverage under this permit. For example, the U.S. National Park Service and Federal Highway Administration are scheduled to commence construction projects in 2025 in Olympic and Rocky Mountain National Parks, both containing Lands of Exclusive Federal Jurisdiction, among other locations, all of which require NPDES permit coverage. The EPA anticipates the most effective way to provide such permit coverage would be through the availability of a general permit, such as the 2022 CGP.

The EPA is proposing this permit modification to ensure that construction projects within any Lands of Exclusive Federal Jurisdiction in the U.S. are eligible for coverage under the 2022 CGP. The EPA notes that this change will not disrupt permit coverage that is already provided for in the 2022 CGP for construction activities within Denali National Park because of its designation as a Land of Exclusive Federal Jurisdiction, as well as any Lands of Exclusive Federal Jurisdiction that may exist within the states of Washington, Colorado, Delaware, and Vermont since the permit provides coverage for Federal Facilities and operators in those states.

This permit modification is proposed under and consistent with the authority of the NPDES regulations for modifications, specifically 40 CFR 122.62(a)(2). The Federal Government's (including the EPA's) authority within Lands of Exclusive Federal Jurisdiction pre-dates the 2022 CGP. However, the EPA only became aware of the gap regarding the coverage of the CGP for all Lands of Exclusive Federal Jurisdiction in the U.S. following the issuance of the 2022 CGP. The agency learned of the need for broader coverage for Lands of Exclusive Federal Jurisdiction following requests made in 2024 to the EPA for permit coverage in U.S. National Park Service properties identified as containing exclusive Federal jurisdiction in 16 U.S.C. chapter 1. Modifying the 2022 CGP to expand the area of coverage to accommodate projects within all Lands of Exclusive Federal Jurisdiction in the U.S. appeared to the EPA to be the most reasonable approach to address this oversight.

Prior to moving forward with this proposed modification, the EPA considered the alternative option of issuing individual permits for projects within Lands of Exclusive Federal Jurisdiction at least in the interim period prior to the reissuance of the CGP in 2027. While this remains an alternative available for any specific project even if the proposed modification is finalized, relying solely on individual permits would not be the most efficient way of authorizing discharges from these projects, given the longer timelines typically associated with the application and permit development process for individual permits compared to the more streamlined authorization approach of the CGP. Moreover, the EPA is not currently certain how many projects may be planned within Lands of Exclusive Federal Jurisdiction before February 2027, making it hard to estimate how long the individual permitting process could take for all of these projects. This could potentially result in unnecessary construction delays in Lands of Exclusive Jurisdiction, such as for critical infrastructure projects in certain U.S. National Park Service properties that may have limited construction seasons. After considering all of these factors, the EPA concluded that proposing to modify the current CGP would be the most effective way to provide permit coverage for these projects.

The EPA also considered whether to issue a standalone general permit for Lands of Exclusive Federal Jurisdiction or to reissue the full CGP prior to its expiration in February 2027. A standalone general permit may provide a means to narrowly target the permitting of projects in these areas. The EPA is concerned, however, that issuing a new general permit would take significantly longer than the proposed modification, so that a final permit might not be available to provide coverage for the projects that may be scheduled to begin in early 2025, and therefore unnecessarily impede construction projects. The EPA also has concerns about full permit reissuance because it could disrupt the typical five-year cycle for reissuing the CGP; this could raise additional implementation questions about the need to provide coverage for already permitted projects. Similar to the standalone general permit option, the EPA also is concerned that it would take longer to reissue the full CGP than finalize the proposed modification. Given these concerns, the EPA is proposing the more narrow modification to the 2022 CGP.

III. Summary of Proposed Permit Changes

The following section describes the modifications that are proposed to the 2022 CGP. These changes are also discussed in the accompanying fact sheet.

• Expanded CGP eligibility for all Lands of Exclusive Federal Jurisdiction (CGP Appendix B)—The EPA proposes to expand the permit eligibility in Appendix B to include coverage for construction projects taking place within any Lands of Exclusive Federal Jurisdiction in the U.S. This proposed expansion would cover projects within Lands of Exclusive Federal Jurisdiction in any of EPA's 10 Regions. The EPA notes that any projects that are already covered under the 2022 CGP for construction activities within Lands of Exclusive Federal Jurisdiction (i.e., Denali National Park, Federal facilities in the states of Colorado, Delaware, and Vermont, and construction carried out by Federal operators in the state of Washington) are not affected by the proposed modification, including not being subject to the proposed new Part 10 requirements (discussed under Clarification of requirements for projects discharging to receiving waters within Lands of Exclusive Federal Jurisdiction in this section).

• New definition of Lands of Exclusive Federal Jurisdiction (CGP Appendix A)—The EPA is including a proposed new definition of Lands of Exclusive Federal Jurisdiction in Appendix A of the 2022 CGP.

• Clarification of requirements for projects discharging to receiving waters within Lands of Exclusive Federal Jurisdiction (CGP Part 10)—The EPA proposes to clarify that operators of projects discharging to receiving waters within Lands of Exclusive Federal Jurisdiction should be held to the same type of discharge requirements that are used in the CGP for discharges to sensitive waters, including Tier 3 outstanding national resource waters. The reasons for this proposed change are severalfold. As the EPA has mentioned in this notice, the EPA does not maintain a comprehensive map or list of Lands of Exclusive Federal Jurisdiction, and for this reason relies on and bases its permitting decisions on the information it does have about the location of such lands. The EPA's best available information indicates that Lands of Exclusive Federal Jurisdiction are within certain national parks established under 16 U.S.C. chapter 1. In addition, the waters that flow through these areas have the potential to be afforded strong protections consistent with Tier 3-designated waters under the EPA's regulations at 40 CFR 131.12(a)(3), which cite “waters of National . . . parks” as examples of potential Tier 3 waters. Under the current 2022 CGP requirements, projects that discharge to waters that are designated as “Tier 3” waters, and therefore “sensitive waters,” are required to conduct more frequent inspections, comply with more rapid stabilization timeframes, and, in some cases, conduct turbidity monitoring of dewatering discharges. Relying on the linkage in the regulations at 40 CFR 131.12(a)(3) between waters flowing through national parks and their potential designation as Tier 3 waters, for the purposes of this permit, the EPA proposes to apply the same protections for waters within Lands of Exclusive Federal Jurisdiction that are established for Tier 3 waters under the CGP. For this reason, the EPA believes it is reasonable to apply these same requirements to projects discharging to receiving waters located within Lands of Exclusive Federal Jurisdiction. Adopting this approach means that the EPA would assume that all waters within Lands of Exclusive Federal Jurisdiction are worthy of treatment as a sensitive water, regardless of whether the waters flow through a national park or other Tier 3 water. Additionally, the EPA acknowledges that applying the same sensitive water requirements to all discharges to waters within Lands of Exclusive Federal Jurisdiction may be, in some instances, overly protective given that some of these waters in some locations may not be of the same high water quality as others. Given that the EPA does not have a complete list of all Lands of Exclusive Federal Jurisdiction, however, the agency believes that requiring treatment of all waters within these areas as sensitive is reasonable based on the best information currently available to the agency.

The EPA notes that additional conforming changes are also proposed to the corresponding sections of the permit to help clarify which requirements apply to discharges to receiving waters within Lands of Exclusive Federal Jurisdiction. See proposed revisions to Parts 2.2.14.b.iv and 4.3.1.

Under the proposed modification, the EPA is also clarifying in Part 10.4 which discharge conditions would be considered triggers for Part 5.2 corrective action.

• Clarification of eligibility requirements related to endangered species (CGP Appendix D)—During the development of this proposed modification, the EPA met with the U.S. National Park Service, among other Federal agencies, to better understand, among other things, their agencies' typical practices related to compliance with the Endangered Species Act for construction projects. Based on these conversations, it is the EPA's understanding that these agencies complete their Section 7 Endangered Species Act consultations for these projects prior to commencing construction. Consistent with this understanding, the EPA is proposing to restrict the permit eligibility under Appendix D for construction within Lands of Exclusive Federal Jurisdiction by any Federal entities and associated contractors to the current eligibility criterion that requires completion of Section 7 consultation prior to NOI submittal (Criterion E).

IV. Public Notice of Clean Water Act Section 401 Certification for Lands of Exclusive Federal Jurisdiction

The EPA acts as the certifying authority for the purposes of Clean Water Act section 401 certification on Lands of Exclusive Federal Jurisdiction. The EPA is providing notice under 40 CFR 121.17(a) that EPA's Regions are requesting certification as of the date of signature of this publication for the proposed 2022 CGP modification. The EPA will act on this certification request by either: (1) granting certification; (2) granting certification with conditions; (3) denying certification; or (4) expressly waiving certification consistent with CWA section 401 and the EPA's implementing regulations at 40 CFR part 121.

V. Paperwork Reduction Act (PRA)

Pursuant to the PRA, the current information collection request (ICR) for the 2022 CGP (EPA ICR Number 2686.03, OMB Control Number 2040-0305) expires on February 28, 2025. In a separate Federal Register notice, the EPA is soliciting comment on the proposed renewal of the current 2022 CGP ICR. Information collected from construction projects permitted under the proposed modification would be covered by the renewed 2022 CGP ICR.

VI. 2022 CGP Incremental Cost Analysis

The EPA conducted a cost analysis for the final 2022 CGP, which monetized and quantified certain incremental cost impacts of the final permit changes as compared to the 2017 CGP. The objective of this incremental cost analysis was to show where or to what extent the final 2022 CGP requirements imposed an incremental increase in administrative and compliance costs (such as the cost to conduct site inspections or to prepare compliance reports) on operators in relation to costs that were already accounted for in the 2017 CGP. A copy of the EPA's incremental cost analysis, titled, “Incremental Cost Impact Analysis for the 2022 Construction General Permit (CGP),” is available in the docket for the final permit (Docket ID No. EPA-HQ-OW-2021-0169). Projects that would be eligible under the proposed inclusion of Lands of Exclusive Federal Jurisdiction would be subject to the same set of permit requirements that already apply to projects located in other areas. The proposed modification provides clarification on which inspection, stabilization, and corrective action requirements would apply to projects covered by the modification that discharge to receiving waters within Lands of Exclusive Federal Jurisdiction, but these do not alter the incremental costs for operators who will be covered under the 2022 CGP. As a result, the EPA does not expect there to be calculable changes to the CGP Incremental Cost Analysis resulting from the expansion of eligibility in the 2022 CGP to include for construction activities within Lands of Exclusive Federal Jurisdiction. For this reason, the EPA expects the costs associated with the modification to be already captured by the analysis that was completed for the full permit.

VII. Executive Order 12866: Regulatory Planning and Review and Executive Order 14094: Modernizing Regulatory Review

The proposed permit modification is not a significant regulatory action as defined in Executive Order 12866, as amended by Executive Order 14094, and was therefore not subject to a requirement for Executive Order 12866 review.

VIII. Executive Order 12898: Federal Actions To Address Environmental Justice in Minority Populations and Low-Income Populations and Executive Order 14096: Revitalizing Our Nation's Commitment to Environmental Justice for All

When issuance of the 2022 CGP was published in the Federal Register, the EPA made the determination that the final action “does not have disproportionately high and adverse human health or environmental effects on minority populations, low-income populations and/or indigenous peoples, as specified in Executive Order 12898.” 87 FR 3532 (January 24, 2022). For the same reasons, the EPA is making the preliminary determination that this proposed permit modification would similarly not have disproportionately high and adverse human health or environmental effects on communities with environmental justice concerns. This determination is based on the view that the requirements in the permit modification would apply equally to all construction projects occurring within Lands of Exclusive Federal Jurisdiction, and the discharge control requirements that permittees would be held to increase the level of environmental protection for all affected populations. The EPA requests comment on this preliminary determination and/or any modifications that the EPA could make to the proposed permit to address environmental justice concerns.

IX. Executive Order 13175: Consultation and Coordination With Indian Tribal Governments

In compliance with Executive Order 13175, the EPA completed consultation with tribal officials on the 2022 CGP and included a summary report on the EPA's outreach activities and comments received during the consultation in the docket for the final permit. The Tribal consultation summary can be accessed at https://www.epa.gov/dockets in the docket for this permit (refer to Docket No. EPA-HQ-OW-2021-0169). A formal consultation with Tribal officials is not required for this proposed action since it is limited to proposing the described narrow modifications to the 2022 CGP. The EPA has, however, notified Tribes of this proposed modification and invited those interested to provide the agency with comments or to request further coordination or consultation. The EPA will address comments submitted by Tribal officials as part of the final modification.

X. Executive Order 13211: Actions That Significantly Affect Energy Supply, Distribution, or Use

This action is not subject to Executive Order 13211, because it is not a significant regulatory action under Executive Order 12866.

XI. Compliance With the National Environmental Policy Act (NEPA) for the National Pollutant Discharge Elimination System (NPDES) General Permit for Discharges From Construction Activities

Pursuant to NEPA, the Council on Environmental Quality's NEPA regulations, and the EPA's regulations for implementing NEPA (40 CFR part 6), the EPA made the determination on January 9, 2022, that the reissuance of the EPA's 2022 CGP was eligible for a categorical exclusion requiring documentation under 40 CFR 6.204(a)(1)(iv). See “Revised Categorical Exclusion: Modification of the EPA 2022 National Pollutant Discharge Elimination System (NPDES) General Permit for Discharges from Construction Activities,” Document Number N2022001 at https://cdxapps.epa.gov/cdx-enepa-II/public/action/nepa/details?nepaId=355222. The EPA has reviewed the proposed modification and has found that it does not affect the EPA's prior categorical exclusion determination for the permit, including that it does not involve any extraordinary circumstances listed in 40 CFR 6.204(b)(1) through (10). The EPA has documented these findings as part of a revised categorical exclusion memorandum that is available to the public at https://cdxnodengn.epa.gov/cdx-enepa-public/action/nepa/search. If new information or changes to the proposed permit involve or relate to at least one of the extraordinary circumstances or otherwise indicate that the permit may not meet the criteria for categorical exclusion, the EPA will prepare an Environmental Assessment (EA) or Environmental Impact Statement (EIS).

Authority: Clean Water Act, 33 U.S.C. 1251 et seq.

David Cash,
Regional Administrator, EPA Region 1.
Javier Laureano Perez,
Director, Water Division, EPA Region 2.
Carmen Guerrero Perez,
Director, Caribbean Environmental Protection Division, EPA Region 2.
Michelle Price-Fay,
Director, Water Division, EPA Region 3.
Kathlene Butler,
Director, Water Division, EPA Region 4.
Tera Fong,
Director, Water Division, EPA Region 5.
Troy Hill,
Director, Water Division, EPA Region 6.
Jeffery Robichaud,
Director, Water Division, EPA Region 7.
Stephanie DeJong,
Manager, Clean Water Branch, EPA Region 8.
Tomas Torres,
Director, Water Division, EPA Region 9.
Mathew Martinson
Director, Water Division, EPA Region 10.

[FR Doc. 2024-28867 Filed 12-12-24; 8:45 am]

BILLING CODE 6560-50-P